DEPARTMENT OF TRANSPORTATION

Federal Aviation Administration

Notice of Intent of Waiver With Respect to Land; Detroit Metropolitan Wayne County Airport, Detroit, MI

AGENCY: Federal Aviation Administration (FAA), DOT.

ACTION: Notice.

SUMMARY: The FAA is considering a proposal to change 5.61 acres of airport land from aeronautical use to non-aeronautical use and to authorize the sale of airport property located at Detroit Metropolitan Wayne County Airport, Detroit, MI. The aforementioned land is not needed for aeronautical use.

The property is located across a public road and to the northwest of the Detroit Metropolitan Wayne County Airport. It is currently vacant unimproved land that was acquired to support the Vining road relocation necessary for the construction of Runway 4L/22R at the airport. The property proposed for release was acquired by the Wayne County Airport Authority under FAA Grant Numbers 3-26-0026-1991, 3-26-0026-2292, 3-26-0026-3695, 3-26-0026-4197, and 3-26-0026-4398. There is now a buyer for the entire 5.61 acre parcel. The land is no longer needed for aeronautical purposes. The proposed non-aeronautical land use would be for compatible commercial/industrial development. The property has been appraised and the airport will receive Fair Market Value for the land to be sold.

DATES: Comments must be received on or before April 23, 2018.

ADDRESSES: Documents are available for review by appointment at the FAA Detroit Airports District Office, Alex Erskine, Program Manager, 11677 South Wayne Road, Suite 107, Romulus, MI 48174. Telephone: (734) 229-2927/Fax: (734) 229-2950 and Wayne County Airport Authority Administrative Offices, 11050 Rogell Dr. #602, Detroit, MI, Attn. Ms. Wendy Sutton. Telephone: (734) 247-7233.

Written comments on the Sponsor's request must be delivered or mailed to: Alex Erskine, Program Manager, Federal Aviation Administration, Airports Detroit District Office, 11677 South Wayne Road, Suite 107, Romulus, MI 48174, Telephone Number: (734) 229-2915/FAX Number: (734) 229-2950.

FOR FURTHER INFORMATION CONTACT: Alex Erskine, Program Manager, Federal Aviation Administration, Airports Detroit District Office, 11677 South Wayne Road, Suite 107, Romulus, MI 48174, Telephone Number: (734) 229-2927/FAX Number:(734) 229-2950.

SUPPLEMENTARY INFORMATION: In accordance with section 47107(h) of Title 49, United States Code, this notice is required to be published in the Federal Register 30 days before modifying the land-use assurance that requires the property to be used for an aeronautical purpose.

The property is currently vacant, unimproved land maintained for compatible land use surrounding the airfield. The proposed non-aeronautical land use would be for compatible commercial/industrial development, allowing the airport to become more self-sustaining. The property has a proposed developer identified and it has been appraised. The airport will receive Fair Market Value for the land to be sold.

The disposition of proceeds from the sale of the airport property will be in accordance with FAA's Policy and Procedures Concerning the Use of Airport Revenue, published in the Federal Register on February 16, 1999 (64 FR 7696).

This notice announces that the FAA is considering the release of the subject airport property at the Detroit Metropolitan Wayne County Airport, Detroit, MI, from its obligations to be maintained for aeronautical purposes. Approval does not constitute a commitment by the FAA to financially assist in the change in use of the subject airport property nor a determination of eligibility for grant-in-aid funding from the FAA.

Property Description

PART OF LOTS 1, 2 AND 3 OF “GRANT ACRES SUBDIVISION OF PART OF THE S.E. ¼ OF THE N.W. ¼ OF SEC. 21, T. 3 S., R. 9 E.” AS RECORDED IN LIBER 69 OF PLATS ON PAGE 23, WAYNE COUNTY RECORDS AND PART OF THE NORTHWEST ¼ OF SECTION 21, T. 3 S., R. 9 E., ALL BEING LOCATED IN THE CITY OF ROMULUS, WAYNE COUNTY, MICHIGAN AND BEING MORE PARTICULARLY DESCRIBED AS FOLLOWS: COMMENCING AT THE CENTER CORNER OF SECTION 21, T. 3 S., R. 9 E., CITY OF ROMULUS, WAYNE COUNTY, MICHIGAN AND RUNNING THENCE SOUTH 88 DEGREES 47 MINUTES 04 SECONDS WEST, ALONG THE EAST—WEST ¼ LINE OF SAID SECTION 21, SAID LINE BEING ALSO THE SOUTH LINE OF SAID “GRANT ACRE SUBDIVISION” (L69, PLATS, P. 23, W.C.R.), A DISTANCE OF 1290.61 FEET TO THE SOUTHWEST CORNER OF SAID SUBDIVISION; THENCE NORTH 01 DEGREE 43 MINUTES 29 SECONDS WEST, ALONG THE WEST LINE OF SAID SUBDIVISION, SAID LINE BEING ALSO THE WEST LINE OF THE SOUTHEAST ¼ OF THE NORTHWEST ¼ OF SAID SECTION 21, A DISTANCE OF 90.43 FEET TO THE POINT OF INTERSECTION OF SAID LINE WITH THE WESTERLY LINE OF RELOCATED VINING ROAD (120 FEET WIDE), SAID POINT BEING THE POINT OF BEGINNING OF THE PARCEL OF LAND HEREIN BEING DESCRIBED; PROCEEDING THENCE FROM SAID POINT OF BEGINNING NORTH 01 DEGREE 43 MINUTES 29 SECONDS WEST. ALONG THE WEST LINE OF SAID SUBDIVISION, SAID LINE BEING ALSO PART OF THE WEST LINE OF THE SOUTHEAST ¼ OF THE NORTHWEST ¼ OF SAID SECTION 21, A DISTANCE OF 920.34 FEET TO A POINT; THENCE NORTH 89 DEGREES 07 MINUTES 15 SECONDS EAST, ALONG THE SOUTH LINE OF PROPERTY AS DESCRIBED IN LIBER 26432 OF DEEDS ON PAGE 520, WAYNE COUNTY RECORDS, A DISTANCE OF 531.24 FEET TO A POINT ON THE WESTERLY LINE OF SAID RELOCATED VINING ROAD; THENCE SOUTH 28 DEGREES 28 MINUTES 47 SECONDS WEST, ALONG THE WESTERLY LINE OF SAID RELOCATED VINING ROAD. A DISTANCE OF 1055.85 FEET TO THE POINT OF BEGINNING. CONTAINING 5.611 ACRES, MORE OR LESS, OF LAND IN AREA

Issued in Romulus, Michigan on March 6, 2018.
Stephanie R. Swann,
Acting Manager, Detroit Airports District Office, FAA, Great Lakes Region.

[FR Doc. 2018-05972 Filed 3-22-18; 8:45 am]

BILLING CODE 4910-13-P